DEPARTMENT OF COMMERCE

National Oceanic and Atmospheric Administration

[RTID 0648-XD748]

Research Track Assessment for Golden Tilefish

AGENCY: National Marine Fisheries Service (NMFS), National Oceanic and Atmospheric Administration (NOAA), Commerce.

ACTION: Notice of public meeting.

SUMMARY: NMFS will convene the Research Track Assessment Peer Review Meeting for the purpose of reviewing Golden Tilefish. The Research Track Assessment Peer Review is a formal scientific peer-review process for evaluating and presenting stock assessment results to managers for fish stocks in the offshore U.S. waters of the northwest Atlantic. Assessments are prepared by the research track working group and reviewed by an independent panel of stock assessment experts from the Center of Independent Experts (CIE). The public is invited to attend the presentations and discussions between the review panel and the scientists who have participated in the stock assessment process.

DATES: The public portion of the Research Track Assessment Peer Review Meeting will be held from March 11, 2024-March 14, 2024. The meeting will conclude on March 14, 2024 at 12 p.m. eastern standard time. Please see SUPPLEMENTARY INFORMATION for the daily meeting agenda.

ADDRESSES: The meeting will be held in person and virtually. The in person meeting will be held in the S.H. Clark Conference Room in the Aquarium Building of the National Marine Fisheries Service, Northeast Fisheries Science Center (NEFSC), 166 Water Street, Woods Hole, MA 02543 and virtually using this Google Meet link: https://meet.google.com/rgd-unsq-quh.

FOR FURTHER INFORMATION CONTACT: Michele Traver, 508-495-2195; michele.traver@noaa.gov.

SUPPLEMENTARY INFORMATION: For further information, please visit the NEFSC website at https://www.fisheries.noaa.gov/new-england-mid-atlantic/population-assessments/fishery-stock-assessments-new-england-and-mid-atlantic. For additional information about research track assessment peer review, please visit the NEFSC web page at https://www.fisheries.noaa.gov/new-england-mid-atlantic/population-assessments/research-track-stock-assessments.

Daily Meeting Agenda—Research Track Peer Review Meeting

The agenda is subject to change; all times are approximate and may be changed at the discretion of the Peer Review Chair.

Monday, March 11, 2024
Time | Topic | Presenter(s) | Notes
9:30 a.m.-9:45 a.m | Welcome/Logistics/Agenda | Michele Traver Assessment Process Lead, Kristan Blackhart, PopDy Branch Chief, Mike Wilberg, Panel Chair
9:45 a.m.-10:15 a.m | Introduction/Executive Summary | José Monteñez, WG Chair
10:15 a.m.-11 a.m | Term of Reference (TOR) #1 | Sarah Salois, Kimberly Hyde, Stephanie Owen, and Adelle Molina | Ecosystem.
11 a.m.-11:15 a.m | Break
11:15 a.m.-12:15 p.m | TOR #2 | Paul Nitschke | Removals (commercial).
12:15 p.m.-12:30 p.m | Discussion | Panel
12:30 p.m.-12:45 p.m | Public Comment | Public
12:45 p.m.-1:45 p.m | Lunch
1:45 p.m.-2:45 p.m | TOR #2 cont | José Monteñez | Removals (recreational).
2:45 p.m.-3:45 p.m | TOR #3 | Paul Nitschke | Indices.
3:45 p.m.-4 p.m | Break
4 p.m.-4:45 p.m | TOR #3 cont | Paul Nitschke | Indices.
4:45 p.m.-5 p.m | Discussion | Panel
5 p.m.-5:15 p.m | Public Comment | Public
5:15 p.m | Adjourn

Tuesday, March 12, 2024
Time | Topic | Presenter(s) | Notes
9:30 a.m.-9:35 a.m | Welcome/Logistics/Agenda | Michele Traver, Assessment Process Lead, Kristan Blackhart, PopDy Branch Chief, Mike Wilberg, Panel Chair
9:35 a.m.-10 a.m | TOR #3 cont | Andy Jones | Indices.
10 a.m.-11 a.m | TOR #3 cont | Paul Nitschke and Jason Boucher | Indices.
11 a.m.-11:15 a.m | Break
11:15 a.m.-11:45 a.m | TOR #8 | José Monteñez and Paul Nitschke | Alternative approach.
11:45 a.m.-12 p.m | Discussion | Panel
12 p.m.-12:15 p.m | Public Comment | Public
12:15 p.m.-1:15 p.m | Lunch
1:15 p.m.-3:15 p.m | TOR #4 | Paul Nitschke | Models.
3:15 p.m.-3:30 p.m | Break
3:30 p.m.-4:30 p.m | TOR #4 cont | Dan Hennen | Models.
4:30 p.m.-4:45 p.m | Discussion | Panel
4:45 p.m.-5 p.m | Public Comment | Public
5 p.m | Adjourn

Wednesday, March 13, 2024
Time | Topic | Presenter(s) | Notes
9:30 a.m.-9:35 a.m | Welcome/Logistics/Agenda | Michele Traver, Assessment Process Lead, Kristan Blackhart, PopDy Branch Chief, Mike Wilberg, Panel Chair
9:35 a.m.-10 a.m | TOR #5 | Paul Nitschke | BRPs.
10 a.m.-10:45 a.m | TOR #6 | Paul Nitschke | Projections.
10:45 a.m.-11 a.m | Break
11 a.m.-11:30 a.m | TOR #7 | José Monteñez and Paul Nitschke | Research Recommendations.
11:30 a.m.-11:45 a.m | Discussion | Panel
11:45 a.m.-12 p.m | Public Comment | Public
12 p.m.-1 p.m | Lunch
1 p.m.-3 p.m | Summary/Meeting Wrap Up | Panel
3 p.m.-5 p.m | Report Writing | Panel
5 p.m | Adjourn

Thursday, March 14, 2024
Time | Topic | Presenter(s) | Notes
9:30 a.m.-12 p.m | Report Writing | Panel
12 p.m | Adjourn

The meeting is open to the public; however, during the `Report Writing' sessions on Wednesday, March 13th and Thursday, March 14th, the public should not engage in discussion with the Peer Review Panel.

Special Accommodations

This meeting is physically accessible to people with disabilities. Special requests should be directed to Michele Traver, via email.

Dated: February 26, 2024.
Everett Wayne Baxter,
Acting Director, Office of Sustainable Fisheries, National Marine Fisheries Service.

[FR Doc. 2024-04250 Filed 2-28-24; 8:45 am]

BILLING CODE 3510-22-P